DEPARTMENT OF HEALTH AND HUMAN SERVICES

Centers for Disease Control and Prevention

[60Day-22-22FI; Docket No. CDC-2022-0064]

Proposed Data Collection Submitted for Public Comment and Recommendations

AGENCY: Centers for Disease Control and Prevention (CDC), Department of Health and Human Services (HHS).

ACTION: Notice with comment period.

SUMMARY: The Centers for Disease Control and Prevention (CDC), located within the Department of Health and Human Services (HHS), as part of its continuing effort to reduce public burden and maximize the utility of government information, invites the general public and other federal agencies the opportunity to comment on a proposed information collection, as required by the Paperwork Reduction Act of 1995. This notice invites comment on a proposed information collection project titled National HIV Behavioral Surveillance: Brief HIV Bio-behavioral Assessment (NHBS-BHBA). CDC is requesting approval to collect data on behaviors related to HIV infection and prevention among priority populations at high risk for HIV using mixed methods in selected geographic areas across two funded states in the United States.

DATES: CDC must receive written comments on or before July 12, 2022.

ADDRESSES: You may submit comments, identified by Docket No. CDC-2022-0064, by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National HIV Behavioral Surveillance: Brief HIV Bio-behavioral Assessment (NHBS-BHBA)—New—National Center for HIV, Viral Hepatitis, STD, and TB Prevention (NCHHSTP), Centers for Disease Control and Prevention (CDC).

Background and Brief Description

The purpose of this data collection is to monitor behaviors of populations at high risk for Human Immunodeficiency Virus (HIV) infection using mixed-methods in selected geographic areas in the United States which lack biobehavioral data related to HIV transmission and prevention.

Preventing HIV, especially among populations at high risk, is an effective strategy for reducing individual, local, and national healthcare costs. The utility of this information is to provide CDC and health department staff with data for evaluating progress towards state public health goals, such as reducing new HIV infections, increasing the use of condoms, and focusing on populations at high risk by describing and monitoring the HIV risk behaviors, HIV seroprevalence and incidence, and HIV prevention experiences of persons at highest risk for HIV infection. Data will be systematically collected using mixed methods of quantitative and qualitative interviews. Brief screening interviews will be used to determine eligibility for participation in the quantitative and qualitative interviews.

Project teams will conduct brief standardized quantitative interviews and anonymous HIV blood-based rapid testing and supplemental testing to those who participate in quantitative data collection to assess HIV seroprevalence. The data from the quantitative interviews will provide estimates of: (1) Behavior related to the risk of HIV and other sexually transmitted diseases, (2) prior testing for HIV, and (3) use of HIV prevention services. HIV screening results will be made available to participants, and those with preliminary positive test results will be linked to HIV care. Qualitative data collection includes key informant interviews with community members and professionals familiar with the population and focus groups to interpret standardized quantitative findings and inform grantee-developed recommendations for state/local public health partners. The data from qualitative interviews will be used to interpret standardized quantitative findings and inform recipient-developed recommendations for state and local public health authorities. No other federal agency collects this type of information in the populations at high risk in these selected geographic areas using mixed methods of quantitative and qualitative interviews.

CDC estimates that during quantitative interviewing, 1338 individuals will complete the quantitative base eligibility screener, 1204 will complete the quantitative population eligibility screener, and 338 will be either not interested or ineligible, yielding a total of 1,000 eligible respondents over a 12-month period. Because HIV testing is a clinical procedure, it is not included in the burden estimates. For qualitative data collection, approximately 96 individuals will complete the eligibility screener, 16 of the respondents will be either not interested in completing a qualitative interview, or will be ineligible, yielding a total of 80 eligible respondents over a 12-month period.

CDC requests OMB approval for an estimated 497 annual burden hours. Participation of respondents is voluntary, and there are no costs to respondents other than their time.

Estimated Annualized Burden Hours
Type of respondents | Form name | Number of respondents | Number of responses per respondent | Average burden per response (in hours) | Total burden (in hours)
Persons Screened | Quantitative Base Eligibility Screener | 1,338 | 1 | 1/60 | 23
Persons Screened | Quantitative Population Eligibility Screener | 1,204 | 1 | 5/60 | 101
Eligible Participants | Quantitative Core Survey | 1,000 | 1 | 10/60 | 167
Eligible Participants | Quantitative Population-specific Questions | 1,000 | 1 | 5/60 | 84
Persons Screened | Qualitative Eligibility Screener | 96 | 1 | 1/60 | 2
Eligible Participant | Qualitative Interviews | 80 | 1 | 90/60 | 120
Total |  |  |  |  | 497

Jeffery M. Zirger,
Lead, Information Collection Review Office, Office of Scientific Integrity, Office of Science, Centers for Disease Control and Prevention.

[FR Doc. 2022-10380 Filed 5-12-22; 8:45 am]

BILLING CODE 4163-18-P